DEPARTMENT OF TRANSPORTATION

Federal Railroad Administration

Request for Expedited Certification and Type Approval of Amtrak Advanced Civil Speed Enforcement System (ACSES)

In accordance with Part 211 of Title 49 Code of Federal Regulations (CFR), notice is hereby given that the Federal Railroad Administration (FRA) received a request for expedited certification and type approval of the Amtrak ACSES. ACSES has been deployed on the Northeast Corridor since December 2000, in accordance with the FRA Final Order of Particular Applicability issued on July 22, 1998 [FRA Docket No. 87-2, Notice No.7]. The request is described below, including the party seeking certification and type approval of ACSES, the regulatory provisions involved, the nature of the request, and the petitioner's arguments in favor of the request.

National Railroad Passenger Corporation

[Docket Number FRA-2010-0029]

The National Railroad Passenger Corporation (Amtrak) is submitting a request for expedited certification and type approval of ACSES, presently installed on the Northeast Corridor, in fulfillment of the requirements of and compliance with the final rule for Positive Train Control systems per 49 CFR part 236, subpart I (specifically, Section 236.1031). The documentation supporting this request demonstrates that ACSES reliably performs the functionalities required by Sections 236.1005 and 236.1007, and therefore conforms to Subpart I. Also, ACSES has been recognized by FRA as being designed and implemented by Amtrak since December 2000, in full accordance with the FRA Final Order of Particular Applicability issued in July 1998. These conditions constitute a legitimate basis for expedited certification and type approval of ACSES.

Submission of the request does not require the establishment of a formal comment period; however, interested parties may submit their views, data, or comments by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received during the review process of this request will be considered by FRA, to the extent practicable, before the final decision is made. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (Volume 65, Number 70; Page 19477) or at http://www.dot.gov/privacy.html.

Issued in Washington, DC, on May 4, 2010.
Grady C. Cothen, Jr.,
Deputy Associate Administrator for Safety Standards and Program Development.

[FR Doc. 2010-11030 Filed 5-10-10; 8:45 am]

BILLING CODE 4910-06-P